DEPARTMENT OF JUSTICE

Drug Enforcement Administration

Victor B. Williams, M.D.; Decision and Order

On January 21, 2015, the Deputy Assistant Administrator, Office of Diversion Control, Drug Enforcement Administration (DEA), issued an Order to Show Cause to Victor B. Williams, M.D. (Respondent), of Little Rock, Arkansas. GX 1. The Show Cause Order proposed the revocation of Respondent's DEA Certificate of Registration BW6686464, and the denial of any pending application to renew or modify his registration, on the ground that he lacks authority to handle controlled substances in Arkansas, the State in which he is registered with DEA. Show Cause Order, at 1 (citing 21 U.S.C. 823(f) & 824(a) (3)). Id.

Specifically, the Show Cause Order alleged that on April 10, 2014, the Arkansas State Medical Board issued to Respondent an “Order and Notice of Hearing,” which revoked his medical license. Id. The Order then alleged that as a result of the revocation, Respondent is without authority to handle controlled substances in Arkansas, the State in which he is registered, and therefore, his registration is subject to revocation.¹ Id. at 1 (citations omitted).

¹ The Show Cause Order also notified Respondent of his right to request a hearing on the allegations or to submit a written statement in lieu of a hearing, the procedure for electing either option, and the consequence of failing to elect either option. Id. at 2 (citing 21 CFR 1301.43).

As evidenced by the signed return receipt card, on January 27, 2015, the Show Cause Order was served on Respondent. GX 3. On February 3, 2015, Respondent, through his counsel, sent a letter acknowledging receipt of the Show Cause Order to the Office of Administrative Law Judges. GX 4. However, Respondent's counsel did not request a hearing on the allegations. See id. Thereafter, on February 19, 2015, the Government submitted a Request for Final Agency Action seeking a final order revoking Respondent's registration. See Government Request for Final Agency Action, at 5 (citing 21 CFR 1301.43(e)).

On June 2, 2015, the Government represented to this office that Respondent's registration had expired on May 31, 2015 because he did not submit a renewal application at least 45 days before his registration's expiration date, as required by the Agency's regulation which is applicable to a registrant who has been served with an Order to Show Cause. See 21 CFR 1301.36(i). Moreover, according to the registration records of the Agency (of which I take official notice, 5 U.S.C. 556(e)), Respondent has not submitted a renewal application, whether timely or not, and his registration has been retired by the Agency. Accordingly, I find that Respondent's registration expired on May 31, 2015 and that there is no application pending before the Agency.

It is well settled that “[i]f a registrant has not submitted a timely renewal application prior to the expiration date, then the registration expires and there is nothing to revoke.” Ronald J. Riegel, 63 FR 67132, 67133 (1998); see also William W. Nucklos, 73 FR 34330 (2008). Furthermore, because Respondent did not file a renewal application, there is no application to act upon. See Nucklos, 73 FR at 34330. Accordingly, because there is neither a registration, nor an application, to act upon, I hold that this case is now moot.

Order

Pursuant to the authority vested in me by 21 U.S.C. 824(a), as well as 28 CFR 0.100(b), I order that the Order to Show Cause issued to Victor B. Williams, M.D., be, and it hereby is, dismissed.

Dated: August 10, 2015.
Chuck Rosenberg,
Acting Administrator.

[FR Doc. 2015-20351 Filed 8-17-15; 8:45 am]

BILLING CODE 4410-09-P